DEPARTMENT OF TRANSPORTATION

Federal Aviation Administration

[AC 90-109]

Airmen Transition to Experimental or Unfamiliar Airplanes

AGENCY: Federal Aviation Administration (FAA), DOT.

ACTION: Notice of availability.

SUMMARY: The Federal Aviation Administration (FAA) is announcing the availability of Advisory Circular (AC) 90-109, which provides information and guidance to owners and pilots of experimental airplanes and to flight instructors who teach in these airplanes. This information and guidance contains recommendations for training experience for pilots of experimental airplanes in a variety of grouping based on performance and handling characteristics. This AC does not address the testing of newly built experimental airplanes. The current edition of AC 90-89, Amateur-Built and Ultralight Flight Testing Handbook, provides information on such testing. However, if a pilot is planning on participating in a flight-test program in an unfamiliar experimental airplane, this AC should be used to develop the skills and knowledge necessary to safely accomplish the test program using AC 90-89. This AC may also be useful in planning the transition to any unfamiliar fixed-wing airplanes, including type-certificated (TC) airplanes.

DATES: This AC became effective on March 30, 2010.

ADDRESSES: How to obtain copies: A copy of this publication may be downloaded from: http://www.faa.gov/documentLibrary/media/Advisory_Circular/90-109.pdf.

FOR FURTHER INFORMATION CONTACT: The FAA General Aviation and Commercial Division (202) 267-8212, Flight Standards Service, AFS-800, Federal Aviation Administration, 800 Independence Avenue, SW., Washington, DC 20591.

Issued in Washington, DC on May 2, 2011.
John McGraw,
Acting Director, Flight Standards Service.

[FR Doc. 2011-11414 Filed 5-9-11; 8:45 am]

BILLING CODE P